DEPARTMENT OF LABOR

Employment and Training Administration

[TA-W-57,639 and TA-W-57,639A]

Bernhardt Furniture Company, Plant # 9, Shelby, NC, and Bernhardt Furniture Company, Plant # 14, Cherryville, NC; Notice of Termination of Investigation

Pursuant to Section 221 of the Trade Act of 1974, an investigation was initiated on July 28, 2005 in response to a petition filed by a company official on behalf of workers at Bernhardt Furniture Company, Plant #9, Shelby, North Carolina (TA-W-57,639) and Bernhardt Furniture Company, Plant #14, Cherryville, North Carolina (TA-W-57,639A).

The petitioner has requested that the petition be withdrawn. Consequently, the investigation has been terminated.

Signed in Washington, DC, this 10th day of August, 2005.
Elliott S. Kushner,
Certifying Officer, Division of Trade Adjustment Assistance.

[FR Doc. E5-4683 Filed 8-25-05; 8:45 am]

BILLING CODE 4510-30-P